DEPARTMENT OF AGRICULTURE

Forest Service

Information Collection; Ride-Along Program

AGENCY: Forest Service, USDA.

ACTION: Notice; request for comment.

SUMMARY: In accordance with the Paperwork Reduction Act of 1995, the Forest Service is seeking comments from all interested individuals and organizations on a new information collection associated with the Ride-along Program application, a program which allows a private citizen to apply to ride along with Forest Service Law Enforcement officers.

DATES: Comments must be received in writing on or before June 14, 2002 to be assured of consideration. Comments received after that date will be considered to the extent practicable.

ADDRESSES: Comments concerning this notice should be addressed to the Director of Law Enforcement and Investigation, Forest Service, USDA, Mail Stop 1140, 1400 Independence Ave., SW., Washington, D.C. 20250-1140.

Comments also may be submitted via facsimile to (703) 605-5112 or by e-mail to broemeling@fs.fed.us.

The public may inspect comments received at 1621 N. Kent Street, Room 1015 Rosslyn Plaza East, Arlington, VA, during normal business hours. Visitors are encouraged to call ahead to (703) 605-4690 to facilitate entry to the building.

FOR FURTHER INFORMATION CONTACT: Byran Roemeling, LE&I, (703) 605-4690 or Mary Ann Ball, Forest Service Information Collection Coordinator, (703) 605-4572, or send an e-mail to maryball@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Description of Information Collection

Title: Ride-along Program.

OMB Number: 0596-New.

Type of Request: New.

Abstract: This information collection is necessary for Forest Service Law Enforcement and Investigation (LE&I) officers to approve a rider who applies to participate in the Ride-along program. This information collection provides additional protection for LE&I officers by confirming the identity and status of riders before allowing them to accompany LE&I officers in boats, cars, trucks, or other Forest Service vehicles. The purpose of the Ride-Along Program is for citizens to learn about and observe Forest Service Law Enforcement and Investigation (LE&I) tasks and activities. The program is intended to enhance Forest Service law enforcement community relationships and cooperation, improve the quality of Forest Service customer service, and provide LE&I personnel a recruitment tool. A rider must complete two forms in order to participate. Form FS-5300-33 asks for the participant's name, address, social security number, driver's license number, work address, location of the Ride-Along, and the reason for the Ride-Along. Law enforcement officers use Form FS-5300-33 to conduct a minimum background check before authorizing a person to ride along. Form FS-5300-34 is signed by riders to exempt law enforcement officers and the Forest Service from damage, loss, or injury liability incurred during the rider's participation in the program. If the information is not collected, riders will not be able to ride along with Forest Service law enforcement officers.

Estimate of Annual Burden:

| Minutes
FS-5300-33 | 5
FS-5300-34 | 5
Total | 10

Type of Respondents: Citizens.

Estimated Annual Number of Respondents: 1200.

Estimated Annual Number of Responses per Respondent: 1.

Estimated Total Annual Burden on Respondents: 34 hours per year.

Comment Is invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the information collection submission for Office of Management and Budget approval.

Dated: April 2, 2002.
Sally D. Collins,
Associate Chief.

[FR Doc. 02-9016 Filed 4-12-02; 8:45 am]

BILLING CODE 3410-11-P